DEPARTMENT OF TRANSPORTATION

Federal Transit Administration

[Docket No. FTA-2023-0032]

RIN 2132-ZA10

General Directive 24-1: Required Actions Regarding Assaults on Transit Workers

AGENCY: Federal Transit Administration (FTA), Department of Transportation (DOT).

ACTION: General directive.

SUMMARY: The Federal Transit Administration (FTA) is issuing a General Directive to address the significant and continuing national-level safety risk related to assaults on transit workers. The General Directive requires each transit agency subject to FTA's Public Transportation Agency Safety Plans (PTASP) Final Rule to conduct a safety risk assessment, identify safety risk mitigations or strategies, and provide information to FTA on how it is assessing, mitigating, and monitoring the safety risk associated with assaults on transit workers. Each transit agency serving a large urbanized area must involve the joint labor-management Safety Committee when identifying safety risk mitigations.

DATES: Responses to this General Directive are due December 26, 2024.

ADDRESSES: FTA's Office of Transit Safety and Oversight (TSO) will host a webinar to discuss the requirements of General Directive 24-1. Visit https://www.transit.dot.gov/assaults for more information and to RSVP. FTA is committed to providing equal access for all webinar participants. If you need alternative formats, options, or services, contact FTA-Knowledge@dot.gov at least three business days prior to the event. If you have any questions, please email FTA-Knowledge@dot.gov.

FOR FURTHER INFORMATION CONTACT: For program matters, contact Stewart Mader, Office of Transit Safety and Oversight, (202) 366-9677 or stewart.mader@dot.gov. For legal matters, contact Heather Ueyama, Office of Chief Counsel, (202) 366-7374 or heather.ueyama@dot.gov. Office hours are from 8:30 a.m. to 5 p.m., Monday through Friday, except Federal holidays.

SUPPLEMENTARY INFORMATION:

I. Executive Summary

II. Summary of General Directive and Changes From Proposed General Directive

III. Notice of Proposed General Directive and Response to Comments

A. General

1. Support

2. Opposition

B. National Level Hazard/FTA's Safety Risk Assessment Process

C. Assault as an Issue Not Exclusive to Public Transportation

D. Compliance Timeframe

E. Burden

F. Funding and Technical Assistance

G. Applicability

H. Definition of Assault on a Transit Worker

I. Safety Risk Mitigations

J. Role of the Safety Committee

1. Role of the Safety Committee in Safety Risk Assessment

2. Role of the Safety Committee in Safety Risk Mitigations

3. Role of the Safety Committee in Monitoring Mitigation Effectiveness

4. Role of the Safety Committee in Required Reporting

5. Other Comments Pertaining to Safety Committee

K. Required Actions

1. Conduct a Safety Risk Assessment

2. Identify Safety Risk Mitigations

3. Submit Required Information to FTA

L. Follow-Up Reporting

M. Sensitive Security Information (SSI) and Freedom of Information Act (FOIA)

N. Oversight and Enforcement

1. Federal Enforcement

2. State Safety Oversight Agency Role

I. Executive Summary

FTA is issuing a General Directive to address the significant and continuing safety risk associated with assaults on transit workers.¹ FTA has identified a national-level hazard that transit workers must interact with the public and, at times, must clarify or enforce agency policies, which can present a risk of transit workers being assaulted on transit vehicles and in revenue facilities. FTA has determined that the national-level hazard and potential consequences discussed above constitute an unsafe condition or practice presenting a risk of death or personal injury for transit workers. Accordingly, pursuant to 49 CFR 670.25, FTA is issuing a General Directive that directs transit agencies to take action to address the identified national-level hazard and the potential consequences of the hazard.

¹ Please refer to the Public Transportation Agency Safety Plans (PTASP) Final Rule for definitions of “assault on a transit worker” and “transit worker”: https://www.ecfr.gov/current/title-49/subtitle-B/chapter-VI/part-673.

This General Directive is part of FTA's ongoing comprehensive efforts to improve transit worker safety. FTA is also undertaking other actions related to transit worker safety, including funding research, sponsoring training, soliciting public input, and providing technical assistance. FTA intends to use information submitted to it pursuant to the General Directive and other FTA initiatives to inform future FTA actions, including rulemakings such as the planned Transit Worker and Public Safety rule (RIN 2132-AB47).

II. Summary of General Directive and Changes From Proposed General Directive

This General Directive requires each transit agency that is subject to the Public Transportation Agency Safety Plans (PTASP) Final Rule (49 CFR part 673) to use the Safety Management System (SMS) processes documented in its Agency Safety Plan (ASP) to conduct a safety risk assessment related to assaults on transit workers on the public transportation system it operates. If a transit agency has conducted a safety risk assessment related to assaults on transit workers in the twelve months preceding the date of issuance of this General Directive, and if the transit agency continues to believe that the results of that safety risk assessment are relevant, the transit agency need not conduct a new assessment. This General Directive also requires each transit agency to use the SMS processes documented in its ASP to identify safety risk mitigations or strategies necessary as a result of the agency's safety risk assessment. As required by 49 U.S.C. 5329(d)(5) and the PTASP Final Rule at 49 CFR 673.25(d)(1), each transit agency serving a large urbanized area must involve the joint labor-management Safety Committee when identifying safety risk mitigations to reduce the likelihood and severity of consequences identified through the agency's safety risk assessment.

This General Directive also requires each transit agency to provide information to FTA on how it is assessing, mitigating, and monitoring the safety risk associated with assaults on transit workers within 90 days of issuance of this General Directive.

FTA has chosen this approach as part of the effort to address assaults on transit workers, as it is grounded in SMS principles and methods, which FTA has adopted as the basis for enhancing public transportation safety. See 49 CFR 670.3. Further, this approach will ensure that each transit agency is taking a formal evaluation of the safety risk related to assaults on transit workers on their system. FTA believes this approach will contribute to transit agencies and their joint labor-management Safety Committees identifying scalable and effective mitigations across the range of services they provide and situations that contribute to the risk of assaults on transit workers.

FTA is finalizing the General Directive largely as proposed. However, in the Notice of Proposed General Directive published on December 20, 2023 (88 FR 88213), FTA proposed a 60-day timeframe for transit agencies to comply with this General Directive. In response to public comments, FTA has increased the compliance timeframe to 90 days in this General Directive. In response to public comments, FTA also has removed the term “written plan” from the Enforcement section of the General Directive. Additional information about these changes is provided in Section III below.

FTA notes that this directive is intended to work in conjunction with Occupational Safety and Health Administration (OSHA) protections and is not intended to preempt OSHA's standards or other enforcement authority.

The General Directive contains binding obligations, which 49 U.S.C. 5334(k) defines as “a substantive policy statement, rule, or guidance document issued by the Federal Transit Administration that grants rights, imposes obligations, produces significant effects on private interests, or effects a significant change in existing policy.” Under 49 U.S.C. 5334(k) FTA is authorized to issue binding obligations if it follows notice and comment rulemaking procedures under 5 U.S.C. 553.

III. Notice of Proposed General Directive and Response to Comments

FTA published a Notice of Proposed General Directive in the Federal Register on December 20, 2023, which is available on the FTA website at https://www.transit.dot.gov/regulations-and-guidance/safety/fta-general-directives and in Docket No. FTA-2023-0032. The public comment period closed on February 20, 2024.

FTA received 66 comment submissions to the docket. Commenters included transit agencies, labor unions, State Safety Oversight Agencies (SSOAs), and individuals. FTA has considered these comments and addresses them in the corresponding sections below. Some comments were outside the scope of this General Directive, and therefore, FTA does not respond to those comments.

FTA reviewed all relevant comments and took them into consideration when developing the General Directive. Below, the comments and responses are subdivided by their corresponding sections of the General Directive and subject matter.

A. General

1. Support

Comments: Several commenters expressed general support for the General Directive, including transit agencies, labor unions, individuals, an industry association, and an SSOA. In general, these commenters emphasized the importance of efforts to address assaults on transit workers and voiced appreciation that FTA is taking action to address this issue.

Several commenters noted that assaults negatively impact the safety of workers and other individuals interacting with the transit system. Some provided anecdotal examples of assaults, while others noted factors that contribute to the problem.

One individual and two labor organizations stated that the General Directive is a step in the right direction but that additional FTA action is needed to address the issue.

FTA response: FTA appreciates the comments that expressed support for the General Directive. FTA acknowledges the efforts taken to date by the transit industry to address assaults on transit workers and looks forward to receiving submissions in response to the General Directive.

FTA acknowledges the comments that noted examples of assaults that negatively impact the safety of transit workers and comments that argued for additional action to address the issue. FTA notes that the General Directive requires each applicable transit agency to provide FTA information on how the transit agency is assessing, mitigating, and monitoring the safety risk associated with assaults on transit workers, which FTA intends to use to inform future Federal action to protect transit workers, including rulemakings such as the planned Transit Worker and Public Safety rule.

2. Opposition

Comments: Some comments opposed FTA's proposal generally. One individual argued that the General Directive does not offer concrete ideas for how transit agencies should combat assault. Another individual expressed that while FTA's recognition of assaults on transit workers is overdue, the General Directive is burdensome and would do little to improve safety for transit workers.

One individual specifically addressed a statement in FTA's Federal Register notice, which articulated FTA's concern that transit agencies may not have completed safety risk assessments despite the presence of the assault risk on their systems. This commenter questioned FTA's statement, arguing that the likelihood of assault is remote for many transit agencies and that it is reasonable to conclude that some agencies did not identify it as an unacceptable risk in need of further mitigation. This commenter further questioned why FTA believes further action is necessary, stating that FTA appeared to be changing its position that assault is best addressed through the scalable PTASP process. This commenter argued that FTA should use the National Public Transportation Safety Plan (National Safety Plan) as FTA's formal mechanism for communicating hazard information and directing transit agency action, as opposed to issuing directives.

FTA response: FTA acknowledges the commenters that expressed opposition to the General Directive and notes that the General Directive is intended to ensure transit agencies assess and mitigate the risk associated with assaults on transit workers and to help FTA better understand the use of SMS processes to address this risk. FTA has limited the reporting required by the General Directive to that which is necessary to support FTA's understanding, in order to minimize the burden associated with responding to the General Directive.

As stated in the Notice of Proposed General Directive, FTA is concerned that transit agencies may not have completed a safety risk assessment despite the presence of the risk of assaults on the systems they operate. FTA has reason to believe this is the case based on an analysis of Special Directives on transit worker assault that FTA issued to nine transit agencies on October 4, 2022. Only four of these agencies reported completion of a safety risk assessment prior to issuance of the Special Directives. FTA understands the commenter's argument that a transit agency may have completed a safety risk assessment and determined that mitigation is not necessary. If that is the case, and the safety risk assessment was completed within 12 months prior to the issuance of this General Directive, the transit agency need not complete another safety risk assessment to comply with this General Directive.

FTA acknowledges the commenter who states that FTA appeared to be changing its position that assault is best addressed through the scalable PTASP process, and notes that the General Directive reinforces PTASP processes by ensuring that agencies are carrying them out to mitigate the risk associated with assaults on transit workers.

FTA acknowledges the commenter that suggested FTA should use the National Safety Plan to direct transit agency action to address assaults on transit workers instead issuing a General Directive. FTA notes that the recently updated National Safety Plan serves as FTA's primary guidance document to improve transit safety performance. The National Safety Plan identifies safety performance measures to support PTASP safety performance target setting, which includes measures related to assaults on transit workers. FTA does not believe that the National Safety Plan is the appropriate mechanism to require the actions outlined in this General Directive.

FTA notes that per 49 U.S.C. 5329(f), Congress has provided FTA with authority to issue directives with respect to the safety of a recipient's transit system or the public transportation industry generally. In 49 CFR 670.25(a), FTA has defined the situations in which FTA may issue General Directives. These include when the FTA Administrator “determines that an unsafe condition or practice, or a combination of unsafe conditions and practices, exists such that there is a risk of death or personal injury, or damage to property or equipment.” As explained in FTA's proposal and in this General Directive, FTA has determined that the national-level hazard and potential consequences relating to assaults on transit workers constitute an unsafe condition or practice presenting a risk of death or personal injury for transit workers. FTA therefore believes that a General Directive is an appropriate further step to address assaults on transit workers. This General Directive is intended to ensure that all transit agencies subject to the PTASP Final Rule will complete a safety risk assessment and mitigate the risk of assaults based on FTA's identification of a national-level hazard regarding assaults on transit workers.

B. National Level Hazard/FTA's Safety Risk Assessment Process

Comments: Two commenters provided feedback on FTA's identification of a national-level hazard regarding assaults on transit workers. One individual expressly disagreed that this is a national-level hazard, arguing that being in a customer-facing position is not itself a hazard. This individual argued that FTA's identified hazard is not consistent with FTA's definition of “hazard” at 49 CFR 673.5. The commenter requested that FTA work with the transit industry to define the hazard in a way that is more accurate, actionable, and consistent with FTA guidance and training. Further, the commenter requested additional information on likelihood determinations made during FTA's safety risk assessment on this topic, specifically how FTA concluded that 185 major assault events from 2008-2019 is a “very high” likelihood.

A transit agency commenter agreed that there is a national-level hazard but stated that transit agencies need a better understanding of how to deploy the Safety Risk Management (SRM) process and implement successful mitigation measures.

FTA response: FTA acknowledges the commenter that disagreed with FTA's identification of a national-level hazard related to assaults on transit workers and that argued the hazard identified by FTA for this concern is not consistent with FTA's definition of hazard in 49 CFR part 673. FTA disagrees with the commenter's assertion and notes that the fact that transit workers must interact with the public and, at times, must clarify or enforce policies is a “real or potential condition that can cause injury, illness, or death,”. As such, it is not in conflict with FTA's definition of hazard at 49 CFR 673.5, and FTA does not believe additional revision is necessary.

Regarding the likelihood determinations made during FTA's safety risk assessment on this topic, as explained in FTA's proposal, to assess the likelihood of assaults on transit workers on vehicles, FTA reviewed 2,225 National Transit Database (NTD) major event reports matching the potential consequence and found an average of 185 events per year. Due to the frequency of events happening on average every other day, FTA determined a likelihood rating of Very High (5). Similarly, to assess likelihood of assaults on workers in facilities, FTA reviewed 674 NTD major event reports from 2008 through 2020 that involved assaults on transit workers in revenue facilities throughout the country and found an average of 56.17 events per year. Due to the rate of occurrence, FTA determined a likelihood rating of Very High (5).

FTA acknowledges the commenter who agreed that there is a national-level hazard and stated that transit agencies need a better understanding of how to deploy the SRM process and implement successful mitigation measures. FTA notes that it provides comprehensive technical assistance to help the transit industry meet PTASP requirements and implement SMS processes. FTA's PTASP Technical Assistance Center (TAC) provides one-on-one technical assistance, conducts voluntary ASP technical reviews, maintains a technical assistance resource library, and facilitates peer-sharing via an ASP Directory. More information is available at https://www.transit.dot.gov/PTASP-TAC.

C. Assault as an Issue Not Exclusive to Public Transportation

Comments: Several commenters noted that assault is a broad societal issue that is not exclusive to public transportation, with some noting that the General Directive does not acknowledge the many societal factors contributing to assaults.

One industry association argued that assaults should be viewed through a broader community-based lens, as opposed to a sole focus on public transportation. A transit agency suggested that FTA should form collaborative partnerships with other stakeholders, such as state agencies, local law enforcement agencies, and community members, to address assaults on transit workers. Another individual requested that the General Directive acknowledge the importance of coordinating with other stakeholders to combat crime generally.

Four commenters expressed concern with using SRM processes to address assaults on transit workers. An industry association argued that assaults on transit workers are random acts and that this unpredictability makes it nearly impossible to use assault data as part of an agency's SRM processes. One individual argued that a transit agency risk assessment will not solve the problem and urged FTA to focus on actions that FTA can control.

A separate individual commenter argued that FTA should address transit security as a separate area of focus from safety and clarify the distinction between these two areas. This commenter argued that risks related to assaults cannot be regulated through a safety lens or safety risk assessment, but instead should be addressed through a transit security and enforcement lens. The commenter argued that the General Directive should require the implementation of solutions that deliver change instead of measuring events in the context of a safety target. In addition, the commenter argued that Federal action on this topic is better addressed by Transportation Security Officials from the Department of Homeland Security (DHS). It recommended that FTA engage with DHS regarding the General Directive. Similarly, an SSOA asked what collaboration FTA has undertaken with security-focused agencies such as the Transportation Safety Administration (TSA) when developing its strategy for addressing assaults on transit workers. This commenter stated that the focus of the General Directive should be sharing information and research relating to mitigation strategies, and providing assistance to agencies that are struggling to effectively mitigate assaults.

FTA response: FTA agrees with the commenters who argued that assault is a broader issue not exclusive to public transportation. FTA recognizes that social, economic, health-related, and other factors external to transit are contributing factors to assaults on transit workers, and that transit agencies alone cannot eliminate the hazards associated with these contributing factors. However, FTA notes that the PTASP Final Rule requires transit agencies to implement mitigations when a safety risk assessment determines that safety risk is at an unacceptable level. FTA also notes that mitigations can include collaboration with community partners who can help address factors external to transit that contribute to assaults on transit workers.

FTA acknowledges the commenters who argued against using SRM processes to address assaults on transit workers. FTA notes that the use of SRM to address assault risk is not new. FTA originally clarified that the transit industry should use the SRM processes required by 49 CFR part 673 to address the safety risk associated with assaults on transit workers through a Federal Register Notice published on May 24, 2019, titled “Protecting Public Transportation Operators from the Risk of Assault” (84 FR 24196). Since that time, FTA has reiterated the requirement for agencies to utilize existing SRM and Safety Assurance (SA) processes to address risk related to assaults on transit workers. Notably, the updated 49 CFR part 673, published on April 11, 2024, includes SRM- and SA-related requirements that pertain to assaults on transit workers. Further, the National Safety Plan published on April 10, 2024 (89 FR 25316) establishes safety performance criteria for all public transportation providers that includes safety performance measures related to assaults on transit workers. In addition, the National Safety Plan identifies safety performance measures related to assaults on transit workers for the safety risk reduction programs of transit agencies serving urbanized areas with a population of 200,000 or more.

FTA notes that the perceived randomness or unpredictability of certain concerns, such as assault, does not preclude safety risk assessments from being effective. To the contrary, FTA believes that the safety risk assessment process and subsequent SA activities allow transit agencies to address risk, even when it appears random or unpredictable, that a transit agency may not have the ability to eliminate by identifying mitigations or strategies that can lower the likelihood of a negative consequence or reduce the severity of such a consequence when it occurs.

FTA disagrees with the commenter who argued that it is inappropriate to conduct a safety risk assessment for a concern that is outside of the jurisdiction or sphere of control of a single transit agency. The SRM process may be applied effectively to safety concerns and hazards that may not have originated within the transit agency. The goal of SRM and SA is not to eliminate a hazard but to reduce the likelihood and severity of potential consequences to an acceptable level. SRM effectively addresses safety concerns, including those that involve forces outside of the transit agency's control, by working to reduce how often a potential consequence may occur, and to reduce the severity of the consequence if it does occur. For example, to mitigate assaults on transit workers, transit agencies may identify, implement, and monitor the effectiveness of mitigations, including, but not limited to, changes to policies and procedures, de-escalation training, crisis intervention and social outreach, increased surveillance, or modifications to operator compartments.

As noted in the response to comments on the PTASP Final Rule, FTA appreciates that some transit agencies treat assault on a transit worker as both a safety and a security event. Congress directed FTA to address assaults on transit workers through both the NTD and FTA's safety program as part of FTA's work to improve safety at transit systems across the country. The PTASP Final Rule carries out the Congressional mandate to address assaults on transit workers through PTASP, and the General Directive reinforces and leverages the requirements of the PTASP Final Rule.

In response to the commenter that recommended that the General Directive should require the implementation of solutions instead of measuring events in the context of a safety performance target, FTA notes that the General Directive does not prescribe mitigations for transit agencies, and instead relies on the transit agency's established SRM processes to understand the assault on transit worker risk and to identify appropriate safety risk mitigations. Further, FTA notes that the General Directive does not establish any new requirement for safety performance target setting. Through this General Directive, FTA will collect information on how the transit agency is monitoring or plans to monitor the effectiveness of any mitigation identified to address the risk of assaults on transit workers.

FTA also acknowledges the commenters that suggested this topic is better addressed by Transportation Security Officials from DHS, and that FTA should collaborate with DHS/TSA. FTA appreciates the commenter's suggestion but notes that Congress directed FTA to address assaults on transit workers through FTA's safety program as part of FTA's work to improve safety at transit systems across the country.

D. Compliance Timeframe

Comments: FTA received comments from several commenters, including transit agencies, a state safety oversight agency, labor unions, and individuals, regarding the General Directive's proposed 60-day compliance timeframe. One transit agency that previously received a Special Directive on Transit Worker Assault stated that it was prepared to submit the required information to FTA within the proposed timeframe. One labor union urged that the General Directive go into effect by July 2024, noting that most agencies' ASP review and update processes will be completed by December 2024. The commenter argued that mitigations therefore should be identified no later than September. Two labor organizations urged FTA to obtain information collected through the General Directive without delay so that it can inform FTA's rulemaking on Transit Worker and Public Safety.

In contrast, several commenters asked FTA to allow additional time for agencies to carry out the required activities and submit responses. Some commenters expressed that 60 days is insufficient time to comply but did not suggest an alternative timeframe. Commenters stated that the timeframe is unrealistic for agencies that must involve their Safety Committee, with one noting that Safety Committee meetings may not align with the proposed 60-day timeframe. This commenter also noted that agencies need more time to coordinate with other stakeholders, such as police departments and city officials. One transit agency stated that its Safety Committee will only have two meetings during the 60-day reporting window, and that compliance with the General Directive could delay other Safety Committee business and result in required overtime for Safety Committee members. This commenter also argued that the Safety Committee process is not fully matured at many transit agencies. One transit agency commenter noted a potential overlap in the General Directive and a State law in California and asked FTA to consider potential conflicts with local legislation and extend the 60-day timeframe.

Three commenters recommended extending the compliance timeframe from 60 days to 120 days. One transit agency recommended a timeframe in the range of 90 to 120 days. These commenters argued that more time would allow agencies to conduct a thorough data-driven analysis, avoid overburdening agency resources, and allow for coordination with Safety Committees.

Two transit agencies recommended extending the compliance timeframe to six months. One of these agencies stated that this additional time is needed to properly evaluate the effectiveness of mitigations. The other agency argued that more time is needed to involve the Safety Committee effectively and ensure all required activities are conducted adequately.

One transit agency recommended a timeframe of at least one year, noting that transit agencies face unique challenges based on their resourcing and operation type.

One transit agency recommended a phased submission timeframe of up to five years, citing the need for a grace period to secure funding, train staff, and implement technology. This commenter further noted that regional transit agencies face challenges during off-cycle budget and planning periods.

FTA response: FTA acknowledges the commenters that provided a rationale for extending the 60-day compliance deadline in the proposed General Directive and has reviewed each comment submitted on this topic. Further, FTA acknowledges the urgency of the assault on transit workers concern as articulated by the labor union commenters. To balance the challenges that commenters raised with the need to maintain a schedule for identifying mitigations that recognizes the urgency of the assault on transit workers safety concern, FTA is adjusting the compliance timeframe to 90 days in this General Directive. The 90-day timeframe provides additional flexibility to agencies to coordinate with Safety Committees, supports annual ASP review and update processes in 2024, and enables the information collected to inform FTA's Transit Worker and Public Safety rulemaking.

E. Burden

Comments: FTA received comments from transit agencies, one individual, and one industry association related to burden associated with the General Directive. Two transit agencies and an industry association expressed concerns at the potential financial and staffing burden associated the General Directive and asked for clarity on how FTA expects transit agencies to fund the required activities, particularly for smaller transit agencies. An industry association noted that the transit industry has faced resource challenges and a fiscal cliff in the wake of the COVID-19 pandemic. This commenter requested that FTA identify resources and funding that agencies can use to complete the General Directive's required actions and reporting. An additional transit agency expressed that FTA should ensure that agencies with limited resources are not inundated with reporting mandates that leave little time for deploying mitigations and strategies to combat assaults. One individual urged FTA to ensure that actions to protect transit operators are implementable in a quick and cost-effective way across transit systems of all modes and sizes.

One individual stated that the General Directive's reporting requirements are especially burdensome. This commenter asked how FTA would use the reported information to make transit workers safer. The commenter also argued that the General Directive would divert resources away from safety initiatives and that Federal funding for security improvements would be a better use of resources. One transit agency outlined burden-related challenges associated with the requirements of the General Directive for agencies that do not have automated methods of capturing the data. Specifically, the agency cited the burden related to manual data collection; acquisition, implementation, and maintenance of automated data collection methods; training expenses; and data analysis and reporting. The commenter also expressed concern about liability that could result from inaccurate data reporting and appropriate safety measures, including legal consequences, damaged public reputation, financial burden, and negative impact on transit worker well-being.

In contrast, one labor organization stated that the General Directive is not burdensome or unwarranted, given the scale of the assault issue.

FTA response: FTA acknowledges the comments submitted regarding the burden associated with the General Directive. FTA notes that the General Directive is leveraging existing SRM and SA processes that transit agencies already carry out to meet the requirements of the PTASP Final Rule. Specifically, the General Directive requirement for transit agencies to conduct SMS activities to address the risk of assaults on transit workers is the same as the SMS processes required under PTASP. These processes are scalable and flexible and enable efficient implementation of mitigations at transit agencies of all sizes. To further minimize burden, the General Directive permits agencies to submit the results of a safety risk assessment conducted within 12 months prior to issuance of the General Directive.

The General Directive imposes an additional requirement to submit information about how transit agencies are assessing, mitigating, and monitoring the safety risk related to assaults on transit workers. To minimize burden associated with this reporting requirement, FTA has developed a reporting tool called Safety Management System (SMS) Report to streamline the submission of information required by the General Directive. This new tool is built using the Transit Integrated Appian Development (TrIAD) platform that houses other applications transit agencies already use, such as Transit Award Management System (TrAMS) and the NTD reporting tool.

FTA notes that transit operators may use a variety of FTA funding sources for the implementation of their ASPs and SMS processes, including Urbanized Area Formula Grants (Section 5307), State of Good Repair (Section 5337), and Bus and Bus Facilities (Section 5339) funds. Those funding sources may be used for activities that are eligible under the applicable grant program. FTA encourages transit agencies to contact their FTA Regional Office for confirmation of specific project eligibility. FTA notes that the General Directive does not establish new NTD requirements for data collection and ongoing data reporting. Further, the General Directive does not require the implementation of any specific mitigation.

FTA also notes and agrees with the labor organization that commented stating that the General Directive is not burdensome or unwarranted given the scale of assaults on transit workers as an issue for the industry.

In response to the commenter that asked how FTA would use information collected by this General Directive to make transit workers safer, FTA notes that the General Directive helps FTA confirm that transit agencies are assessing and mitigating risk associated with assaults on transit workers. Additionally, the General Directive enables FTA to collect information on mitigation effectiveness from a wide range of transit agencies, which will allow FTA to better address the safety concern at a Federal level, enable FTA to disseminate information to the transit industry regarding mitigations that have proven effective for specific transit applications, and inform future Federal action to protect transit workers, including rulemakings such as the planned Transit Worker and Public Safety rule.

F. Funding and Technical Assistance

Comments: One individual and four transit agencies argued that additional Federal funding is needed to address assaults on transit workers. An industry association and a transit agency recommended that FTA allow transit agencies to use Section 5307 funds for implementation of mitigations identified through the safety risk assessment. Similarly, several commenters stated that funding is needed for measures such as increased security patrols on buses, new technology, and other safety and security measures. One transit agency and an industry association urged FTA to allow transit agencies to use Section 5307 funds for consultant support for the safety risk assessment. A separate agency suggested that FTA establish grant programs to support agencies' acquisition and implementation of automated data capture technology. This commenter also recommended that FTA should establish emergency financial assistance packages to support transit agencies facing data collection challenges and to help agencies bridge financial gaps during off-cycle budget periods.

Two transit agencies suggested that FTA provide personnel to patrol transit systems, similar to the use of Federal Air Marshals or airport security officials. One transit agency, a city department of transportation, and an industry association urged FTA to consider funding a pilot program for the design and manufacture of buses with fully enclosed bus operator compartments. The industry association further clarified that it supported a pilot program to gather data, but it did not support the use of prototype buses in rehabilitation or new procurements.

One transit agency requested training about how to implement the General Directive through SMS. One transit agency commented that agencies may not have the training, resources, or “know-how” about how to turn risk assessments into action and requested further guidance from FTA. Another transit agency recommended that FTA should establish technical assistance, training, resources, and capacity building programs to assist transit agencies with issues such as data reporting and analysis. The agency further suggested that FTA establish a regular review process with input from transit agencies to evaluate the effectiveness of assault data reporting guidelines and funding programs, as well as a public awareness campaign about assault data reporting

One commenter suggested that FTA provide training regarding how the General Directive works in conjunction with standards and protections of the Occupational Safety and Health Administration (OSHA) and suggested creating a forum for agencies to discuss possible conflicts between the General Directive and other directives.

Two transit agencies, a labor union, and an SSOA submitted comments requesting that FTA encourage collaboration between Federal, State, and local entities to facilitate the collection and sharing of best practices related to assaults, including information on safety risk mitigations and their effectiveness. The SSOA and one transit agency suggested that FTA engage transit agencies that have fewer incidences of assault, noting that they may be implementing mitigations that are informative to other transit agencies. Another transit agency recommended that FTA fold the results of the General Directive into the data collected from FTA's 2021 RFI on assaults on transit workers.

FTA response: FTA appreciates comments received regarding the need for Federal funds and resources to address the General Directive and other activities related to addressing assaults on transit workers. As explained above, FTA notes that the General Directive is leveraging current SMS processes required under the PTASP Final Rule and does not establish any new process requirements related to SRM and SA activities. Instead, the General Directive requires transit agencies to conduct a safety risk assessment regarding assaults on transit workers and identify safety risk mitigations or strategies, and submit to FTA, via form, the results of these SMS activities relating to assault. Transit operators may use a variety of FTA funding sources for the implementation of the SMS processes defined in their ASPs, including Urbanized Area Formula Grants (Section 5307), State of Good Repair (Section 5337), and Bus and Bus Facilities (Section 5339) funds. Those funding sources may be used for activities that are eligible under the applicable grant program. FTA encourages transit agencies to contact their FTA Regional Office for confirmation of specific project eligibility. FTA appreciates the commenters' suggestions for additional Federal resources, including a transit version of TSA's Air Marshal program and additional assault prevention infrastructure focused grants, but notes that these suggestions are outside of the scope of this General Directive.

FTA appreciates the commenters' suggestions regarding technical assistance and training related to the General Directive and data reporting relating to assaults on transit workers. FTA will deliver a webinar to communicate the General Directive requirements, as well as a demonstration of Safety Management System (SMS) Report, the tool developed by FTA to facilitate reporting required by this General Directive. FTA also appreciates the commenters' suggestions to facilitate the collection and sharing of best practices and effective mitigations on this topic, including engagement with agencies that have fewer incidences of assault, aligning results from the General Directive with the 2021 RFI on assaults on transit workers, a review process for mitigations and funding, and a public awareness campaign. An outcome of the General Directive is FTA's collection of information on mitigations related to assaults on transit workers and their effectiveness. FTA will explore ways to share this information with the transit industry to support industry mitigation efforts.

G. Applicability

Comment: FTA received comments from transit agencies and individuals regarding the applicability of the General Directive. One individual urged FTA to exclude rural and small urban transit systems from the General Directive, arguing that these systems experience minimal assaults and that compliance with the General Directive would be burdensome for them. Another transit agency requested that FTA apply the General Directive only to Tier I providers, reasoning that the PTASP Final Rule adequately addresses assaults for Tier II providers and that Federal requirements are burdensome for smaller agencies.

One individual stated that measures to protect transit workers from assault should apply to all transit agencies, not just large systems. Another commenter stated that FTA should clarify that a large urbanized area is defined as having a population greater than 200,000. An operator of an automated rail system stated that it does not have operators on board and therefore has no potential of assaults on transit workers. This commenter asked how it should respond to comply with the General Directive.

FTA response: FTA appreciates the comments regarding General Directive applicability. In response to the commenter that suggested FTA exclude Tier II providers (as defined by FTA's Transit Asset Management rule, 49 CFR part 625) and rural and small urban systems from the General Directive requirements, FTA notes that the General Directive applies only to agencies that are subject to the PTASP Final Rule. Thus, recipients that receive funds only under 49 U.S.C. 5310 and/or 49 U.S.C. 5311 are excluded from the General Directive, unless they operate a rail fixed guideway public transportation system. FTA notes that the General Directive applies to all transit agencies subject to the PTASP Final Rule based on FTA's identification of a national-level hazard regarding assaults on transit workers, which exists at transit agencies of all sizes and across all modes of public transportation, not just those in large urbanized areas.

FTA acknowledges the commenter who suggested that measures to address assaults should apply more broadly than just large transit systems. FTA confirms that the General Directive applies to small providers that are recipients or subrecipients of Section 5307 funds. FTA notes that these small providers are already required to have the SRM and SA processes in place that the General Directive draws upon. Further FTA notes that the SRM and SA process requirements are flexible and scalable and that nothing in the General Directive establishes new or more rigorous SRM or SA process requirements. Some smaller transit agencies may reach very different conclusions than some larger transit agencies based on their own operating realities and risk exposure.

Regarding clarification of a large urbanized area, FTA notes that the commenter slightly misstated the definition. As stated in the General Directive summary section, a large urbanized area is an urbanized area with a population of 200,000 or more. In response to the commenter that asked how an automated rail system that has no potential for assaults on transit workers should respond to comply with the General Directive, FTA notes that the General Directive applies to all transit agencies that are subject to the PTASP Final Rule, including those that provide automated rail service with no operators. FTA clarifies that the risk associated with assaults on transit workers is broader than just transit operators. For instance, a car cleaner or maintenance worker onboard an automated rail vehicle in revenue service may face a risk of assault similar to that of an operator on a staffed vehicle. A safety risk assessment can help an agency and its Safety Committee determine whether the level of risk is acceptable, and therefore that mitigation is not requited, or that the level of risk is unacceptable, and mitigations must be identified.

H. Definition of “Assault on a Transit Worker”

Comments: FTA received comments from several commenters regarding the definition of “assault on a transit worker,” including transit agencies, individuals, and a transit industry association. Commenters expressed concern regarding a lack of clarity related to the definition, and many argued that this may impact the effectiveness of assault data collection and analysis. Three transit agencies and one transit industry association requested guidance, such as illustrative examples, about how to interpret the phrase “interferes with” to ensure the definition is applied consistently and effectively. One of the transit agencies requested that FTA work with the industry to develop a more precise definition of the phrase. In addition, one transit agency specifically requested guidance about how to apply the “knowingly” and “with intent” elements of the definition.

Two transit agencies requested clarification regarding whether the definition includes non-physical assaults. One industry association commented that if the definition includes verbal abuse, this could result in an increase in worker compensation applications, which could negatively impact costs and transit worker availability.

Several commenters urged FTA to develop guidance or technical assistance and training resources to help the industry interpret and apply the definition. Some commenters recommended that FTA collaborate with transit agencies and transit workers when developing such guidance. One individual requested that FTA provide guidance on the definition before requiring additional reporting through the General Directive.

One transit industry association and one transit agency urged FTA to consider and address how differences in State laws could affect a transit agency's ability to respond to the General Directive. The industry association noted that in some States, “interference with a transit worker's duties” may not be a crime at all. The commenter further noted that many states require agencies to consult with prosecutors when an assault occurs, and that it is unclear how the actions proposed in the General Directive would work in these situations. One transit agency asked FTA to clarify whether agencies should use their State law definition of “assault” for purposes of the General Directive. One transit agency argued that FTA should encourage transit agencies to adopt assault definitions established in law enforcement contexts, such as the definition used by the Federal Bureau of Investigation (FBI).

One individual requested that FTA define “transit employee” in the General Directive to include all transit employees.

FTA response: FTA acknowledges the comments received regarding the definition of “assault on a transit worker” and appreciates the challenges associated with implementing new definitions. FTA notes that the General Directive uses the same definition of “assault on a transit worker” that is used for purposes of 49 CFR part 673, the National Safety Plan, and NTD reporting. This is consistent with the statutory definition in 49 U.S.C 5302. FTA confirms that this statutory definition includes non-physical assaults. FTA disagrees with the commenter who suggested that FTA delay the General Directive reporting requirements until issuing guidance. FTA's NTD program already has developed training and published guidance to support transit agency compliance with reporting requirements and associated definitions. FTA may consider providing additional guidance on specific aspects of the definition, and additional technical assistance in collaboration with transit agencies to support compliance with the assault on transit worker reporting requirements in the General Directive.

FTA considered the comments regarding the varied definitions and treatment of assault on a transit worker by States across the country, and the suggestion to adopt assault definitions established in law enforcement contexts. FTA understands that State and local law enforcement may have varied approaches and classification systems for handling assault data. However, FTA does not believe that this impacts a transit agency's ability to comply with the requirements of the General Directive because a transit agency can use assault data, as reported to the NTD using the statutory definition, as inputs to a safety risk assessment. FTA also notes that transit agencies should not use state law assault definitions for purposes of responding to the General Directive. As noted above, transit agencies should use the definition of “assault on a transit worker” in 49 U.S.C. 5302, which is the same definition for purposes of PTASP, the National Safety Plan, and NTD reporting.

FTA notes that the General Directive does not use the term “transit employee,” but rather “transit worker.” This term has the same definition as the one provided in the PTASP Final Rule at 49 CFR part 673.

I. Safety Risk Mitigations

Comments: FTA received several comments from individuals, transit agencies, labor unions, an SSOA, and a transit industry association that suggested specific mitigations to address assaults on transit workers. In addition, some transit agency commenters provided examples of mitigations and other actions they are already implementing. Commenters recommended a variety of mitigations, including physical barriers to separate operators from passengers; fare collection technology and enforcement policies; revised operating procedures; surveillance technologies; policing/patrol strategies; public awareness campaigns; signage; autonomous technology; and de-escalation training. One commenter suggested that the National Institute for Occupational Safety and Health (NIOSH) hierarchy of controls is a useful tool for assessing and controlling exposure to hazards. This commenter expressed that in the long-term, FTA should focus on actions in the “elimination” category of the NIOSH framework, such as increasing autonomous technology to eliminate or reduce transit workers' exposure to safety hazards.

A labor organization specifically recommended that FTA mandate certain mitigations, including fully enclosed protective barriers, signage, personal security training, surveillance technologies, and additional de-escalation training. This commenter also advocated for federal regulations giving transit workers the right to take personal security actions, as well as the creation of voluntary programs for transit workers to obtain personal security training and to become auxiliary law enforcement officers. One transit agency suggested that FTA require a minimum amount of safety and mental health first aid training hours, and that transit agencies promote their safety and security reporting and intervention systems publicly. An individual commenter advocated that FTA require transit agencies to perform security self-assessments about the need for uniformed resources, and that FTA explore creating national law enforcement partnerships and investigate issues related to authorities for transit police.

One individual expressed concern that some mitigations may conflict with other regulations such as the Federal Motor Vehicle Safety Standards (49 CFR part 571), noting also that manufacturers do not offer an off-the-shelf option for operator barriers.

FTA response: FTA appreciates the examples of safety risk mitigations provided through comment submissions and looks forward to reviewing the mitigation-related information submitted in response to the General Directive. FTA also notes that it is not mandating that transit agencies implement specific mitigations through the General Directive. Transit agencies and their Safety Committees must use the SRM process to identify mitigations appropriate to their agencies, which may include mitigations such as those suggested by the commenters. FTA notes that it does not intend for mitigations to conflict with other regulations, and transit agencies should ensure that mitigations identified as a result of their safety risk assessment are in compliance with other regulations to which they are subject. FTA is also exploring mandatory standards, and FTA intends to use responses to the General Directive to inform future Federal action to protect transit workers, including rulemakings such as the planned Transit Worker and Public Safety rule.

J. Role of the Safety Committee

Comments: FTA received comments from several commenters, including labor unions, individuals, and transit agencies, regarding the role of the Safety Committee in the activities required by the General Directive. One individual noted the importance of involving the voice of frontline transit workers in addressing safety issues affecting workers. One transit agency voiced that its Safety Committee has been an effective forum to discuss safety information and has enabled the agency to better partner with and empower its frontline workers.

1. Role of the Safety Committee in Safety Risk Assessment

Three labor unions and one individual recommended that FTA require the Safety Committee to conduct the required safety risk assessment. In contrast, one individual and one transit agency voiced that the Safety Committee should not perform safety risk assessments, arguing that the Safety Committee does not have the training or time to do so. The individual argued that the risk assessment should be created by the transit agency, and that the Safety Committee's role should be to vet the risk assessment and contribute to mitigation strategies.

2. Role of the Safety Committee in Safety Risk Mitigations

Regarding the safety risk mitigation process, one labor organization argued that language requiring agencies to “involve” Safety Committees is not strong enough, and that the Bipartisan Infrastructure Law requires that Safety Committees “identify and recommend” mitigations. A transit agency stated that the language in the proposed directive appeared to indicate that the Safety Committee is an advisory body and asked FTA to clarify the Safety Committee's role. One individual recommended that FTA consult with bus operators and their respective union leadership for recommendations regarding mitigations.

One labor organization and two individuals stated that Safety Committees should be given access to the transit agency's budget and grant information so that it is empowered to propose effective mitigations. Two of these commenters also stated that Safety Committees need access to safety incident documentation, with one commenter recommending that this should be done on a weekly basis.

One individual expressed concern about Question (c)(7) of the proposed General Directive, which would require agencies to explain why the Safety Committee did not identify or recommend safety risk mitigations identified through the agency's safety risk assessment. The commenter argued that this question allowed agencies to exclude their Safety Committee from the process and asked FTA to explain the reason for this. The commenter further argued that the Safety Committee's involvement in the process needs to be substantive. One labor organization recommended that FTA should clarify that if a transit agency's answer to this question indicates that the Safety Committee did not identify or recommend mitigations, the agency will be out of compliance with the General Directive and subject to enforcement action unless the transit agency comes into prompt compliance.

One labor organization argued that FTA should use the General Directive as a mechanism to confirm compliance with the Safety Committee-related requirements established in the PTASP Final Rule. Specifically, the commenter urged FTA to require transit agencies that serve large urbanized areas to note for each anti-assault infrastructure mitigation, whether the Safety Committee previously found that the mitigation would reduce assaults on transit workers. It also stated that if the Safety Committee previously opined that the mitigation would reduce assaults, FTA should consult the transit agency's ASP to ensure that the safety risk reduction program includes a plan for implementing the mitigation. The commenter further stated that if the Safety Committee did not previously opine on the mitigation, then FTA should require prompt revision and resubmission of the safety risk reduction program.

3. Role of the Safety Committee in Monitoring Mitigation Effectiveness

Regarding monitoring mitigation effectiveness, a labor union commented that FTA should specify that the Safety Committee must evaluate the effectiveness of all completed anti-assault mitigations. This commenter further argued that the statement concerning such effectiveness required in Question (c)(17) must come from the Safety Committee itself, not from management.

4. Role of the Safety Committee in Required Reporting

Three labor organizations and one individual urged that FTA require Safety Committees to approve any agency submission made to FTA in response to this General Directive. One of these labor organizations voiced that Safety Committee approval is a mechanism for frontline workers to hold management accountable and is necessary to ensure the accuracy of reporting. This commenter urged that FTA should at a minimum require transit agencies to provide each Safety Committee member, or a frontline transit worker representative if no Safety Committee exists, with a copy of the report that is submitted to FTA in response to the General Directive. Two of these labor organizations voiced that if an agency does not have a Safety Committee, a frontline transit worker representative should be required to review and approve the report.

5. Other Comments Pertaining to Safety Committee

One labor organization and two individuals argued that the General Directive must address whistleblower and retaliation protections for frontline transit worker representatives serving on Safety Committees. The labor organization also stated that if a transit agency is subject to state sunshine laws, there should be public access to Safety Committee meetings. One individual suggested that FTA add release time for Safety Committee members to attend transit agency meetings, such as meetings of the Board of Directors.

Several commenters addressed other Safety Committee-related issues, including tiebreaking mechanisms and transit agency implementation of mitigations recommended by the Safety Committee. One individual requested that FTA require documentation of Safety Committee meetings, involvement of frontline workers, and evidence that the transit agency acted on the Safety Committee's recommendations.

FTA response: FTA appreciates the comments received regarding the role of the Safety Committee and agrees that Safety Committees are an important way for frontline workers to improve safety at their transit agency.

FTA acknowledges the comments regarding the Safety Committee's role in the required safety risk assessment. FTA notes that the General Directive relies on the Safety Committee and SMS requirements of 49 CFR part 673. Transit agencies should use the safety risk assessment process defined in their ASP to conduct the required risk assessment.

FTA agrees with the commenter that stated that Safety Committees must “identify and recommend” mitigations through the transit agency's SRM processes. However, it does not agree that any changes are necessary to the General Directive to clarify this. Section B of the General Directive cites 49 U.S.C. 5329(d)(5), which requires Safety Committees to “identify and recommend” mitigations. Given that the General Directive cites the statutory requirement, FTA does not believe it is necessary to restate the requirement in the General Directive. As FTA has communicated clearly through the PTASP Final Rule, the Safety Committee's role is not merely an advisory one. Safety Committees must perform the responsibilities defined in statute and the PTASP Final Rule, including the responsibility to identify and recommend mitigations. FTA appreciates the comment that recommended FTA consult with bus operators and their respective union leadership for recommendations. FTA notes that the PTASP requirement for Safety Committee involvement in identifying mitigations provides a venue for frontline transit worker representatives to recommend mitigations.

FTA acknowledges the suggestions that the Safety Committee have access to a transit agency's budget and grant information and safety incident documentation. FTA notes that the General Directive does not create a new role or requirement for the Safety Committee and relies on the Safety Committee, SMS, and recordkeeping requirements of 49 CFR part 673. The PTASP Final Rule includes a requirement for Safety Committee procedures to include how the Safety Committee will access transit agency information, resources, and tools, as required by 49 CFR 673.19(c)(5), which is inclusive of all data reasonably necessary for the Safety Committee to carry out its statutory responsibilities.

FTA acknowledges the comments regarding Question (c)7 of Section (c) of the General Directive, including the concern that this question allows transit agencies to not involve their Safety Committee in the General Directive process. FTA disagrees with this interpretation. As explained above, Section B of the General Directive explicitly requires Safety Committee involvement by stating that “each transit agency serving a large urbanized area must involve the joint labor-management Safety Committee when identifying safety risk mitigations to reduce the likelihood and severity of consequences identified through the agency's safety risk assessment.” FTA clarifies that Question (c)7 is intended merely to accommodate situations where the agency's Safety Committee chooses not to recommend a safety risk mitigation based on the results of the safety risk assessment. This question should not be interpreted to mean that an agency may exclude the Safety Committee from the General Directive process. FTA confirms that if a large urbanized area provider does not involve its Safety Committee in the safety risk mitigation process, the transit agency would be out of compliance with the General Directive and subject to appropriate enforcement action.

FTA acknowledges the suggestions that FTA require the Safety Committee or frontline transit workers to approve any submission made by the transit agency in response to the General Directive, or at a minimum receive a copy of the report submitted to FTA. While transit agencies and their Safety Committees may voluntarily adopt these mechanisms, FTA declines to require them. The Safety Committee's minimum responsibilities are provided by statute and regulation in 49 U.S.C. 5329(d) and 49 CFR part 673. Transit agencies should use existing PTASP Safety Committee, SMS, and recordkeeping processes to address General Directive requirements.

FTA acknowledges the comments suggesting that FTA use the General Directive to confirm compliance with the PTASP requirements for Safety Committees, such as requiring transit agencies that serve large urbanized areas to note whether the Safety Committee previously found that each anti-assault infrastructure mitigation would reduce assaults on transit workers, and require transit agencies to include such mitigations in their ASPs as part of the safety risk reduction program. FTA also acknowledges the commenter that recommended that FTA specify that the Safety Committee must evaluate the effectiveness of all completed anti-assault mitigations and recommended that the statement concerning such effectiveness required in Question (c)(17) must come from the Safety Committee itself, not from management. As noted above, the General Directive does not create a new role or requirements for the Safety Committee and relies on the Safety Committee and SMS requirements of 49 CFR part 673 that agencies subject to the PTASP Final Rule are already required to implement. FTA notes that transit agencies that are out of compliance with PTASP Final Rule or the requirements of this General Directive are subject to appropriate enforcement action.

FTA appreciates the suggestions regarding additional Safety Committee-related issues, but FTA notes that these are outside the scope of the proposed General Directive. FTA refers commenters to the PTASP Final Rule for requirements regarding tiebreaking mechanisms, Safety Committee responsibilities, and recordkeeping.

K. Required Actions

1. Conduct a Safety Risk Assessment

I. Exemption

Comments: Two transit agency commenters asked for clarification regarding the safety risk assessment exemption for transit agencies that have conducted a safety risk assessment in the twelve months preceding the issuance of the General Directive. One of these commenters specifically requested clarification about what would exempt a transit agency from the requirement, and the time period for the exemption. The other commenter asked FTA to clarify whether other types of reviews or assessments could trigger an exemption from conducting a full safety risk assessment. This commenter requested that the exemption window should be expanded to 24 months, arguing that the findings of a safety risk assessment conducted prior to the 12-month window will most likely yield the same results as a safety risk assessment conducted within the window. This commenter stated that it has conducted several safety risk assessments within the 24-month window, and that requiring it to repeat them would be unduly burdensome.

FTA response: FTA acknowledges the commenters that requested clarification on the safety risk assessment exemption for transit agencies that have recently conducted a safety risk assessment on assaults on transit workers. FTA confirms that if a transit agency has completed a safety risk assessment for assaults on transit workers in the 12 months preceding the publication of this General Directive, and if the transit agency continues to believe that the results of that safety risk assessment are relevant, the transit agency need not conduct a new safety risk assessment for the purposes of this General Directive. FTA established this exemption to reduce the burden of conducting another safety risk assessment if an agency has already completed one within the last year. In these situations, General Directive submissions should contain information on the results of the assessment and on the implementation and effectiveness of any mitigations identified through the safety risk assessment.

FTA notes that this exemption applies only to a safety risk assessment conducted using the processes established under 49 CFR 673.25(c) and defined in a transit agency's ASP. Finally, FTA disagrees with the commenter who recommended extending the exemption timeframe from 12 months to 24 months. FTA believes that given the seriousness of the assaults on transit workers concern and industry trends that show increasing numbers of assaults, a safety risk assessment conducted more than 12 months before the publication of the General Directive may not reflect the agency's current risk levels for assaults on transit workers. FTA therefore disagrees that a safety risk assessment conducted during a 24-month window would yield the same results as one conducted within the 12-month window. FTA understands the commenter's concern regarding burden, but as explained in Section E, FTA believes that any burden imposed by this General Directive is justified.

II. Process

Several commenters, including transit agencies and one labor union, submitted comments related to the safety risk assessment process. One transit agency noted that it already has completed a safety risk assessment that is being reviewed by its Safety Committee. One transit agency supported the proposed requirement to complete a safety risk assessment, stating that hazard analysis and safety risk assessments are imperative to understand what works and to see what the industry is doing.

One labor union argued that FTA should require the safety risk assessments to be conducted by an independent third party to ensure that there will be a more objective assessment of risk and actions taken to protect workers.

One transit agency supported the requirement to perform a safety risk assessment but requested that FTA provide training to clarify the difference between this requirement and the PTASP SRM process. Another transit agency noted that the General Directive's collection of specific data in Section C could indicate that FTA is requiring agencies to use a process different from the SRM process defined in a transit agency's ASP. The commenter requested clarification on this point. One commenter recommended that FTA create a checklist and defined process regarding safety risk assessments for assaults on transit workers, including a conflict resolution process for disagreements between management and labor.

Two transit agencies requested that FTA provide definitions or thresholds for the likelihood and severity categories in an agency's safety risk assessment matrix, with one specifically expressing confusion about how to distinguish minor first aid from minor injury events. The other transit agency argued against using unmeasurable quantifiers such as “significant” or “minor,” in the assessment as they leave room for interpretation when considering monetary loss, noting it may be more effective to quantify this with tangible measures such as vehicle loss rather than subjective monetary calculations. One labor union requested clarity on how agencies should calculate overall risk ratings. The commenter asked FTA to confirm whether agencies should average the numerical “likelihood” values for potential consequences, and how an agency should calculate the overall letter “severity” values. One transit agency commenter recommended that FTA use a different safety risk matrix for collecting General Directive results, arguing that the matrix used in the proposed General Directive differs from matrices published in other FTA technical assistance materials.

One transit agency commenter argued that the required information in the General Directive is too broad for a single safety risk assessment and asked FTA to clarify whether the data should be aggregated by different modes of operation or as an agency-wide assessment. This commenter noted that in their experience, the associated risk is higher for bus modes than rail, and combining bus with rail for the purposes of the assessment would trigger additional reporting requirements established by the transit agency's SSOA. One transit agency proposed that FTA allow agencies to either conduct a single safety risk assessment of the risk associated with assaults on transit workers or compile the results of multiple safety risk assessments with the risk of assaults on transit workers to provide the information requested in the directive.

One transit agency argued that the General Directive should require or encourage the assessment of physical assault and non-physical assault separately, noting that there is likely to be a difference in both likelihood and severity for each.

FTA response: FTA acknowledges the commenter that noted that it already has completed a safety risk assessment that is being reviewed by its Safety Committee, and notes that if the safety risk assessment falls within 12 months of issuance of the General Directive, then in falls within the exemption for a transit agency to submit the results of that safety risk assessment as part of the response required by the General Directive. FTA appreciates the commenter that expressed support for the proposed requirement to complete a safety risk assessment and agrees that safety risk assessments are valuable.

FTA acknowledges the commenter that argued FTA should require the risk assessments to be conducted by an independent third party to ensure that there will be a more objective assessment of risk and actions taken to protect workers. FTA notes that the General Directive requires transit agencies to follow their own SRM and SA processes, as established under the PTASP Final Rule and defined in their ASP, to minimize the burden associated with complying with the General Directive. FTA notes that the PTASP Final Rule includes requirements for conducting safety risk assessments and for establishing and carrying out safety risk reduction programs, but the PTASP Final Rule does not require agencies to conduct safety risk assessments through independent third parties. The process defined in a transit agency's ASP may rely on an independent third party, but FTA does not require a transit agency to do so.

FTA acknowledges the commenter that asked for clarification and training on the difference between the General Directive requirements and the SRM requirements in the PTASP Final Rule, and the commenter that asked whether FTA's collection of information could indicate that FTA is requiring transit agencies to use a different process from the SRM process defined in a transit agency's ASP. FTA notes that the General Directive does not require a specific safety risk assessment methodology beyond what is required by the PTASP Final Rule, and FTA confirms that it expects agencies to use the safety risk assessment processes documented in their ASP to conduct the safety risk assessment required by the General Directive. FTA encourages agencies to visit the PTASP website at https://www.transit.dot.gov/ptasp for technical assistance resources on SRM requirements. In response to the commenter who argued that FTA should provide a checklist for conducting safety risk assessments for assaults on transit workers, including a conflict resolution process, FTA notes that the General Directive relies on the processes established by transit agencies under 49 CFR part 673. This provides significant flexibility to transit agencies in the development and deployment of safety risk assessment processes. Transit agencies and their Safety Committees should refer to the dispute-resolution requirement at 49 CFR 673.19(c)(8) for the resolution of Safety Committee disputes.

FTA acknowledges the commenter that asked FTA to provide definitions or thresholds for the likelihood and severity categories in the matrix presented in the General Directive, and noted confusion about how to distinguish between minor first aid and minor injury events. FTA disagrees with providing additional likelihood or severity criteria in the General Directive as transit agencies may use different methods or measures for quantifying likelihood and severity. By defining specific criteria in the General Directive, FTA could introduce conflicts with the safety risk assessment processes developed and used by transit agencies. FTA notes that the General Directive does not prescribe a matrix or quantifiers for purposes of conducting the safety risk assessment. Transit agencies should use the matrix or matrices they have adopted as part of their safety risk assessment process documented in their ASP. However, when agencies submit information in response to the General Directive, FTA is asking the transit industry to normalize their assessment results according to the scales in the matrix presented in the General Directive.

For example, a transit agency may use a matrix in which a middle tier of the severity scale is labeled medium, whereas in FTA's matrix the middle tier of the severity scale is labeled moderate. Normalizing by agencies at the point of submission allows for agencies to use their own varied processes for conducting safety risk assessments while submitting assessment results in a manner that supports industry-wide analysis and perspective. FTA has added the matrix to the General Directive and will add it to the Safety Management System (SMS) Report tool for submitting required responses to the General Directive. FTA acknowledges the comment that recommended that FTA use a different safety risk matrix for collecting General Directive results and noted that the matrix used in the proposed General Directive differs from other matrices published in FTA technical assistance materials. FTA disagrees with providing a different matrix because, as noted above, FTA's matrix sets the stage for normalizing results in a manner that supports industry-wide analysis and perspective.

In response to the commenter that asked for clarification on how agencies can average likelihood and severity ratings to report an overall risk rating for two potential consequences, FTA recommends that agencies select the rating reflecting the worst outcome among the potential consequences assessed to represent the overall risk rating.

FTA agrees with the commenter that recommended that the General Directive allow for transit agencies to conduct mode-specific safety risk assessments and notes that the General Directive requires transit agencies to conduct safety risk assessments according to the safety risk assessment processes defined by their ASP. Similarly, FTA acknowledges the commenter that suggested the General Directive should require or encourage the assessment of physical assault and non-physical assault separately and the commenter that proposed that FTA allow agencies to either conduct a single safety risk assessment of the risk associated with assaults on transit workers or compile the results of multiple safety risk assessments with the risk of assaults on transit workers. FTA notes that transit agencies may take into account the distinction between non-physical and physical assaults when performing their safety risk assessment and determining likelihood and severity of the risk, and may take into account multiple safety risk assessments of the risk associated with assaults on transit workers. For purposes of reporting, agencies will need to enter overall risk ratings into the Safety Management System (SMS) Report tool for submitting required responses to the General Directive.

2. Identify Safety Risk Mitigations

Several commenters, including three individuals and a transit agency, expressed concerns related to mitigation requirements and the ability for a mitigation to be effective across all transit applications, given varied operational characteristics, resource availability, existing mitigation landscapes, and need for coordination with local and State authorities. One transit agency asked for clarification on how the General Directive requirements differ from using the SRM processes required by 49 CFR part 673, including requirements to assess, track, monitor, and report data to FTA. One commenter asked FTA to include specific language that would allow for mitigations to be scalable to fit the size of an agency.

One transit agency suggested that FTA provide a categorized list of mitigations identified through its 2021 Request for Information (86 FR 53143), and that transit agencies should then document in their ASP which of those mitigations they are implementing.

One industry association and one transit agency commenter argued that informed strategies and mitigations to address assaults on transit workers come from a diversity of areas within a transit agency and recommended that FTA expand the responsibility for identifying and implementing mitigations beyond the role of the Safety Committee and Chief Safety Officers. The industry association noted further that FTA should coordinate with operations and police/security departments to ascertain the best information and data as it pertains to the General Directive.

FTA response: FTA reiterates that the General Directive does not mandate any specific mitigation, and a transit agency or Safety Committee may determine, as a result of the safety risk assessment, that no mitigation is necessary to address the risk of assaults on transit workers. The General Directive requires transit agencies to use existing SRM and SA processes required by the PTASP Final Rule and defined in their ASP to assess safety risk related to assaults on transit workers, to identify any necessary safety risk mitigations, and to provide FTA with information about how they are assessing, mitigating, and monitoring the safety risk. As such, the General Directive reinforces the flexibility of the PTASP Final Rule and the ability of each transit agency and Safety Committee to determine risk at their transit agency and to identify mitigations that may be appropriate for their unique operations. In response to the commenter that requested clarification on how the General Directive differs from using the SRM and SA processes required by 49 CFR part 673 to assess, track, monitor, and report data, FTA confirms that the General Directive leverages the SRM and SA processes required by the PTASP Final Rule. In response to the commenter that asked FTA to include specific language that would allow for mitigations to be scalable to fit the size of an agency, FTA declines to do so, because the General Directive reinforces the flexibility of the PTASP Final Rule.

In response to the commenter that suggested FTA provide a categorized list of mitigations identified through its 2021 Request for Information, and that transit agencies should then document in their ASP which of those mitigations they are implementing, FTA notes that the General Directive lists mitigation categories. Further, Safety Management System (SMS) Report, the tool developed by FTA to facilitate reporting required by this General Directive, will allow transit agencies to select mitigation categories that represent the mitigations they have identified, and provide additional detail about how mitigations apply to their unique operations.

FTA agrees with the commenter who argued that the identification of mitigations and strategies to address risk associated with assaults on transit workers benefits from a wide perspective. For the purposes of identifying mitigations, transit agencies may leverage any number of sources within their agency, such as operations, service planning, hiring, and others, as well as external sources, such as industry associations, academia, and consultants. The General Directive does not limit the use of sources for this purpose. FTA also notes that it remains the responsibility of the transit agency and Safety Committee to conduct the actions required by the General Directive.

FTA acknowledges the commenter who noted that a transit agency's safety office should coordinate with operations and police/security departments to ascertain the best information and data as it pertains to the General Directive. FTA agrees with the commenter's position that a transit agency can benefit from a wide perspective across the organization and community. FTA encourages transit agencies to use the appropriate subject matter experts and information sources when conducting safety risk assessments and identifying safety risk mitigations. FTA notes that the General Directive does not limit the use of subject matter expertise.

3. Submit Required Information to FTA

I. Mitigations Identified or Implemented

Comments: FTA received comments from several commenters, including transit agencies and labor unions, in response to the proposed General Directive requirements for transit agencies to provide information related to mitigations transit agencies have identified or implemented to address the safety risk associated with assaults on transit workers (Questions (c)(8) through (c)(14)).

Two transit agency commenters noted that the General Directive did not appear to allow transit agencies to provide information related to assault mitigations that were developed prior to the required safety risk assessment. One of these agencies recommended that the General Directive include a mechanism to acknowledge three years of prior mitigations that agencies have implemented. Both commenters recommended that FTA collect implementation and effectiveness information on these existing mitigations.

One industry association commented that many of the mitigations listed in Question (c)(8) already are being implemented at many transit agencies, and some are too costly. This commenter requested that FTA consider if any of the listed mitigations should be removed or added. It noted that self-defense training is another possible mitigation but would require extensive training and should be used only as a last resort.

One transit agency commenter recommended that FTA require transit agencies to include mitigations that jurisdictional partners are implementing. The agency noted that it has been actively working internally and with its jurisdictional partners to find holistic relief to the issue of assaults on transit workers. This commenter also recommended that the mitigations be limited to things over which a transit agency has control and authority.

A labor organization commented on two of the listed mitigations under “operating policies and procedures.” First, it stated that permitting discharging passengers between designated stops is ineffective and creates additional problems. Second, it noted that there is a need for policies and procedures permitting transit workers to discharge passengers when they engage in behavior that endangers workers or passengers.

Two transit agency commenters suggested that FTA should clarify or define “personal security training” in Question (c)(8). One of these commenters also suggested that FTA provide recommended training content for this type of training.

FTA response: FTA acknowledges the commenters that voiced opinions about the mitigations listed in Question (c)(8), including concerns that the mitigations are already being implemented, may be too costly to implement, or that transit agencies would not be able to report mitigations developed prior to the latest safety risk assessment. FTA reiterates that it is not mandating any of the mitigations listed in Question (c)(8). As explained above, transit agencies and their Safety Committees will use the existing SRM process defined in their ASP and have flexibility to recommend mitigations that are appropriate to a transit agency's unique circumstances. In addition, FTA notes that effective safety risk assessments take into account existing safety risk mitigations. Transit agencies can report safety risk mitigations that were in place prior to the safety risk assessment as part of their General Directive submission. FTA agrees that collection of information related to the effectiveness of these mitigations is important information to help transit agencies address the risk of assaults on transit workers and shape future FTA action. Similarly, FTA does not discourage transit agencies from including mitigations that may be implemented by jurisdictional partners external to the transit agency. FTA encourages transit agencies to report information on the mitigations that they actively monitor for effectiveness under the SA requirements of 49 CFR part 673.

FTA acknowledges the comment regarding policies and procedures permitting transit workers to discharge passengers between designated stops. FTA disagrees that discharging passengers between designated stops is ineffective, and notes that transit agencies are increasingly testing policies to permit discharging passengers between designated stops to increase safety and comfort for passengers by letting them disembark closer to their intended destination than a designated stop. FTA also notes that policies permitting transit workers to safely discharge passengers that endanger transit workers or other passengers can increase safety for transit workers and passengers. The General Directive does not require that transit agencies adopt specific mitigations such as policies and procedures for discharging passengers, but transit agencies and their Safety Committee may identify the need for specific policies and procedures for discharging passengers as a safety risk mitigation.

FTA appreciates the comments received requesting clarification on the “personal security training” mitigation category used in Section(c)(8) of the General Directive. For purposes of this mitigation category, transit agencies can include any personal safety or security training that the agency has or plans to administer to mitigate safety risk associated with assaults on transit workers in addition to de-escalation training, which should be captured under the “de-escalation training” mitigation category.

II. Implementation Status

FTA received comments from transit agency commenters and one labor union commenter in response to General Directive requirements for transit agencies to report the status of a transit agency's implementation of mitigations chosen to address risk related to assaults on transit workers. One commenter argued that providing accurate mitigation completion dates in Questions (c)(11)-(12) would be extremely challenging in certain situations (e.g., installation of two-way radio and camera systems that have been in place for decades). It also argued that providing approximate percentages of completion in Question (c)(13) can be seen as arbitrary and will result in quickly outdated information. The commenter suggested instead that reporting a mitigation as “Planned,” “In Progress,” or “Complete” would be sufficient for the FTA to gain a high-level understanding of mitigation implementation status.

Another transit agency commenter argued that the proposed questions capturing information on mitigation implementation status would not capture situations where an agency pivoted away from a mitigation shown to be ineffective or not viable. Further, the commenter argued that if an agency reported a 100% implementation status for mitigations, they would give the false impression that there would no longer be any instances of assaults on transit workers.

One transit agency requested that FTA expand Question (c)(14) to include information about external issues related to governance and the interaction between a transit agency and its jurisdiction.

FTA response: FTA acknowledges the comments received regarding the General Directive's requirement for transit agencies to report the implementation status of mitigations to address assaults on transit worker risk. FTA confirms that transit agencies will report the implementation status of each mitigation being implemented by the agency to address the risk associated with assaults on transit workers. FTA understands that it may be challenging to provide exact start and completion dates for mitigations that have been in place for several years, and asks that transit agencies provide the best available data in their responses to Questions (c)(11) and (c)(12). FTA disagrees with the commenter that argued that reporting implementation statuses such as “Planned,” “In Progress,” or “Complete” would be sufficient and that FTA should not ask for percentages in Question (c)(13). FTA notes that the use of percentages to approximate the level of implementation provides FTA with useful implementation data because it enables FTA to better quantify and analyze the implementation progress for mitigations throughout the industry. In response to the commenter that expressed concern regarding how FTA will interpret the implementation data submitted by transit agencies, FTA notes that it does not equate 100% mitigation implementation with 100% prevention of assaults on transit workers. Further, Safety Management System (SMS) Report, the tool developed by FTA to facilitate reporting required by this General Directive, will allow transit agencies to provide supporting context in response to Question (c)(17) to describe situations where an agency or its Safety Committee has identified a mitigation as ineffective and has slowed or stopped implementation as a result.

In response to the commenter that requested FTA expand Question (c)(14) to include information about external issues related to governance and the interaction between a transit agency and its jurisdiction, FTA clarifies that the language “any external rate-limiting factors affecting implementation” in the question includes information about issues related to governance and interaction between a transit agency and external organizations.

III. Monitoring Effectiveness of Mitigations

Comments: FTA received comments from several commenters, including from a labor union and transit agencies in response to General Directive requirements for transit agencies to report information related to mitigation effectiveness monitoring (Questions (c)(15) through (c)(17)). One transit agency requested that FTA clarify its expectations for the requested effectiveness information. Another agency expressed concern at the challenge of evaluating the effectiveness of individual mitigations, noting that many agencies are implementing multiple interventions to address assaults. This commenter suggested that FTA instead should require that agencies provide an analysis of “before” and “after” assault data related to their collective interventions. Another agency argued that effectiveness measurement will be difficult unless agencies have access to historic assault on transit worker data, and effectiveness strategies therefore may look different in the short-term versus long-term.

One transit agency argued that FTA should not require agencies to report performance information or data used to make effectiveness determination in Question (c)(15), stating that it should instead rely on the assault on transit worker data the agencies already report to the NTD. This agency further argued that the effectiveness category options in Question (c)(16) are arbitrary, and agencies should not be required to report the information. This commenter noted that if transit agencies are required to report on effectiveness, then FTA should provide more details and/or guidelines to evaluate effectiveness, so each agency is using the same criteria to make this determination. Similarly, one transit agency commented that effectiveness metrics may not have measurable quantification.

One labor organization stated that mitigative effectiveness data should not be limited to barriers. It urged FTA to clarify that transit agencies must report the information in Questions (c)(11) through (c)(17) for each of its reported mitigations.

FTA response: FTA acknowledges the comments received regarding the General Directive's requirement for transit agencies to report mitigation effectiveness information to FTA. FTA expects transit agencies and their Safety Committees to use their existing SA processes, required by 49 CFR 673.27(b)(2), to monitor the effectiveness of their safety risk mitigations.

FTA disagrees with the commenter that argued the options provided for mitigation effectiveness in Question (c)(16) are arbitrary and should be more quantifiable. FTA believes that the options provided in the question (“Effective”, “Ineffective”, and “Not Yet Determined”) are self-explanatory. Similar to the question regarding risk ratings, FTA declines to provide more specific criteria, as transit agencies may use different measures for evaluating effectiveness. By defining specific criteria in the General Directive, FTA could introduce conflicts with the SA processes developed and used by transit agencies. In Question (c)(16), FTA asks that transit agencies normalize the reporting of their effectiveness determinations by reporting using the three categories listed in the question. This normalization will ensure that transit agencies report using consistent metrics. If an agency has not yet been able to make a determination that a mitigation is either effective or ineffective using its existing processes to monitor effectiveness, the agency can respond with “Not Yet Determined.”

FTA acknowledges the commenters that raised concerns about the challenge of effectiveness determinations, and suggested that effectiveness should be based solely on the assault data that an agency reports to the NTD. FTA disagrees with these commenters. FTA notes that transit agencies and their Safety Committees may use assault event data reported to the NTD to measure mitigation effectiveness. However, they may also identify other information to determine if a specific mitigation is achieving a goal to reduce the risk associated with assaults on transit workers to an acceptable level. For example, agencies and their Safety Committees may measure effectiveness by leveraging information from transit worker safety reporting systems, customer feedback channels, technology-specific data outputs, and many other sources. FTA believes that transit agencies and their Safety Committees can efficiently leverage existing SMS processes to make effectiveness determinations.

In response to the commenter that urged FTA to clarify that transit agencies must report the information in Questions (c)(11) through (c)(17) for each of its reported mitigations, FTA confirms that the General Directive requires agencies to report the information for each reported mitigation. Further, Safety Management System (SMS) Report, the tool developed by FTA to facilitate reporting required by this General Directive, will require transit agencies to enter responses for questions (c)(11) through (c)(17) for each reported mitigation before the agency's General Directive response can be submitted to FTA.

IV. Collection of Additional Information

Comments: FTA received comments from several commenters including a labor union, transit agencies, a transit association, and an individual recommending FTA expand or modify data collection requirements. One individual suggested that the General Directive collect more detailed information about mitigations, including the type of barriers identified and deployed. This commenter also noted that the type and length of de-escalation training varies across transit agencies. The labor union suggested that FTA require transit agencies to report detailed information on specific mitigations related to assaults on transit workers, including barriers, post-incident counseling and employee assistance programs, de-escalation training, and workplace violence prevention policies. The labor union also recommended that FTA collect data and information related to work hours lost and resignations due to assaults, related compensation and benefits costs, communications and security emergency response times, and the absolute numbers and the percentages of victims of assaults on transit workers who have been subject to discipline in connection with assaults since October 2022. This labor union recommended that FTA maximize the General Directive to collect any and all information that will be relevant to the FAST Act rule and other future rulemaking. In addition, this commenter urged FTA to require transit agencies to compare and report assault data for each mitigation that the agency lists in Question (c)(8), and to submit any reports from transit workers about the effectiveness of the mitigation.

One transit agency requested that FTA require transit agencies to report a separate category on sexual harassment, noting that female transit workers face unique challenges in the workplace that makes it difficult to retain diverse staff.

FTA also received comments related to the current level of assault reporting to the NTD. One individual suggested that transit agencies provide an updated statistic of assaults on an annual basis. A transit agency and an industry association recommended that the NTD capture assaults on transit workers on a more granular level by breaking down reporting for additional categories of transit workers, arguing that this would provide more accurate data and assist in mitigation. One transit agency suggested that small agencies should report assaults on transit workers only once they reach a defined threshold number of assaults. This commenter noted that assaults at smaller agencies are typically non-physical assaults.

FTA response: FTA acknowledges the commenters that requested FTA require the collection of detailed data from respondents on specific mitigations and response activities for assaults on transit workers. FTA declines to add data collection requirements beyond the questions in the proposed General Directive to minimize the burden on transit agencies to respond to the General Directive. FTA understands the importance of the information reported through the General Directive to inform future FTA action, such as the planned Transit Worker and Public Safety rulemaking. FTA believes that the reporting required through the General Directive will provide FTA with necessary and useful information to inform these actions.

In response to the commenter requesting clarification, FTA confirms that it expects that if an agency has identified and implemented a safety risk mitigation in response to assaults on transit workers, the transit agency will provide this in its General Directive submission and include information on the effectiveness of the mitigation.

In response to the commenters requesting changes to NTD reporting requirements, FTA notes that changes to the NTD reporting requirements are outside of the scope of this General Directive.

L. Follow-Up Reporting

Comments: A transit agency and a labor union submitted comments regarding follow-up reporting after an agency's initial required response to the General Directive. One labor union argued that FTA should require transit agencies to conduct a safety risk assessment related to assaults on transit workers and provide information to the FTA on a regular basis, suggesting every two to four years. One transit agency noted that it would be useful to FTA if agencies annually update their safety risk assessments. Similarly, the transit agency suggested it would be beneficial for FTA to require ongoing re-assessment at annual intervals and to include a mechanism and schedule for follow-up reporting.

FTA response: FTA appreciates the comments regarding requirements for additional follow-up reporting following the initial response required by the General Directive. FTA is not establishing additional follow-up submission requirements for transit agencies at this time to minimize the burden associated with responding to this General Directive. In the future, FTA may choose to request additional related information as necessary.

M. Sensitive Security Information (SSI) and Freedom of Information Act (FOIA)

Comments: One industry association commenter expressed concern that the information that transit agencies are required by the General Directive to report to FTA may be Sensitive Security Information (SSI). The commenter also expressed concern about Freedom of Information Act (FOIA) requests and whether the information and data submitted to FTA would be subject to FOIA. This commenter noted concern that transit agency submissions to FTA could create unwarranted exposure to liability and lawsuits that would incentivize transit agencies to limit the scope of their actions under the General Directive. This commenter urged FTA to consider how agencies can protect the analysis that FTA is requiring through the General Directive, including a recommendation that FTA preempt state sunshine laws.

FTA response: FTA acknowledges the commenter and notes that if transit agencies believe their submissions contain SSI, they should contact FTA to discuss an appropriate transmission method.

U.S. Department of Transportation statute at 49 U.S.C. 40119 and regulations at 49 CFR parts 15 and 1520 prescribe procedures for recipients to protect SSI in their possession, through adequate storage, marking, and transmission of protected records only to persons with a need to know. In the event FTA receives a FOIA request for SSI, FTA may withhold SSI records that are specifically exempted from FOIA disclosure by law. See, 5 U.S.C. 552(b)(3); 49 CFR 7.23(c)(3). Recipients reduce the risk of mishandling SSI by segregating and marking SSI in accordance with the requirements of 49 CFR 15.13.

N. Oversight and Enforcement

1. Federal Enforcement

Comments: FTA received several comments regarding FTA's enforcement of the General Directive, including from labor unions and a transit industry association. One SSOA commenter requested clarification on how FTA plans to approach oversight and enforcement of this directive. One individual stated that it supported increased Federal oversight of transit agencies and that transit agencies should face regulatory consequences if they fail to reasonably safeguard transit workers. A labor union commenter requested that FTA strengthen language within the directive to say that “will” take enforcement action rather than that FTA “may” take enforcement action related to violation of the General Directive. This labor union commenter also requested that FTA change language regarding its authority to “withhold up to 25 percent” of financial assistance to recipients to “withhold 25 percent.” A separate labor union commenter stated that FTA would likely have to take enforcement action based on the General Directive and should begin preparing for this possibility. One local labor union commenter stated that FTA should establish punitive measures for transit agencies that fail to take adequate measures to protect transit workers and that FTA should seek authority to take enforcement action if it determines that it does not have the necessary legal authority.

One labor union argued that FTA should strengthen the General Directive's enforcement provisions by establishing a mechanism for frontline workers and their representatives to notify FTA of noncompliance with the General Directive and defining a procedure by which FTA will accept and investigate reports of such noncompliance. The commenter also requested FTA define the phrase “written plan,” that FTA used in the proposed General Directive when describing FTA's enforcement authority.

One transit agency asked whether FTA will deem an agency to be out of compliance if the reporting is too simplistic, noting that mitigations will either be in infancy or not yet started and the General Directive does not address follow-up reporting.

One transit agency suggested that FTA should provide recognition or rewards for agencies that demonstrate exceptional compliance with reporting requirements and that have launched innovative approaches to addressing safety issues and data reporting.

Some commenters suggested that FTA explore changing laws and increasing penalties related to assaults on transit workers, with some commenters requesting FTA provide guidance to States on this topic.

One transit agency commenter asked how FTA will measure the success of this General Directive, noting that many transit agencies already implement safety risk mitigations for assaults on transit workers.

FTA response: FTA acknowledges the comments received regarding oversight and enforcement of the General Directive. FTA plans to use its existing authorities to ensure that transit agencies are completing the required actions of the General Directive. Title 49 U.S.C. 5329 and CFR part 670 identify FTA's safety enforcement authorities, which includes the withholding of up to 25 percent of a recipient's Section 5307 funds to address situations where a “recipient has engaged in a pattern or practice of serious safety violations, or has otherwise refused to comply with the Public Transportation Safety Program, as codified at 49 U.S.C. 5329, or any regulation or directive issued under those laws for which the Administrator exercises enforcement authority for safety.” 49 CFR 670.23(b). FTA exercises discretion when enforcing the Public Transportation Safety Program and will take enforcement action as appropriate. FTA therefore declines to revise the General Directive to state that it “will” take enforcement action. FTA also notes that the enforcement language specifying withholding of “up to” 25 percent of funds is rooted in statutory language, which provides that FTA may withhold “not more than” 25 percent of Section 5307 funds. 49 U.S.C. 5329(g)(1)(E). FTA also acknowledges the commenter that asked FTA to consider exploring harsher penalties on individuals that assault transit workers but notes that FTA does not have authority to impose civil or criminal penalties.

FTA acknowledges the commenter that suggested establishing additional General Directive enforcement provisions and mechanisms. As noted above, FTA intends to exercise its existing enforcement authorities to ensure compliance with the General Directive. However, as noted in the PTASP Final Rule response to comments, FTA is considering the development of a mechanism to receive allegations of non-compliance with the PTASP requirements.

FTA appreciates the comment that requested clarity regarding the use of the term “written plan” to support the description of FTA's enforcement authority. In the proposed General Directive, the enforcement section noted that “FTA may take enforcement action for any violation of this General Directive or the terms of any written plan adopted pursuant to this General Directive in accordance with FTA's authorities under 49 U.S.C. 5329, including but not limited to (1) directing a recipient to use Federal financial assistance to correct safety deficiencies; and (2) withholding up to 25 percent of financial assistance to a recipient under 49 U.S.C. 5307.” FTA generally includes this reference to “written plan” in Special Directives where recipients are required to develop corrective action plans in response to required actions of Special Directives. This reference is not necessary for this General Directive, and FTA has removed the term “written plan” from the enforcement section of the General Directive.

FTA appreciates the comments that asked how FTA would measure success for this General Directive, asked whether FTA will deem an agency to be out of compliance if it reports on mitigations either early in implementation or not yet started, and suggested that FTA should provide recognition or rewards for agencies that demonstrate exceptional compliance or innovative approaches to addressing safety issues and data reporting. Success will be primarily based on full compliance with the General Directive, which will show that the industry is using SRM and SA to address and monitor safety risk. Additional success measures for the General Directive will be an improved understanding of mitigation effectiveness to allow FTA to focus attention on specific mitigations and strategies that are shown to be effective in mitigating assaults on transit workers. FTA also notes that the General Directive includes specific options for reporting that a mitigation is in planning or in progress, and an agency may use these options to report on the status of any mitigation.

2. State Safety Oversight Agency Role

Comments: Three commenters requested clarification on the role of the State Safety Oversight Agency (SSOA) related to the General Directive, including two SSOAs and one transit agency. One SSOA commenter was supportive of the directive, but requested clarity as to the role of the SSOA in ensuring actions are taken or incorporated into the transit agencies' monitoring activities. A separate SSOA commenter asked if FTA is assuming oversight responsibility of rail transit agencies on behalf of SSOAs for assaults on transit workers through the directive. One transit agency asked for clarification about State oversight and enforcement, noting that assaults disproportionately affect bus operators but SSOAs only oversee rail transit.

FTA response: FTA appreciates the comments received regarding clarification of the role of the SSOA related to the General Directive. FTA notes that while the General Directive does not establish any new oversight requirements for SSOAs, it does not remove any existing SSOA oversight responsibility. Safety Management System (SMS) Report, FTA's tool to collect responses required by this General Directive, will provide SSOAs with read-only access to the General Directive submissions made by the transit agencies they oversee under the State Safety Oversight Program, in order to support ongoing SSOA oversight activities. The General Directive does not establish any reporting or submission requirements for SSOAs. As the General Directive does not establish new reporting or oversight activities for SSOAs, SSOAs may choose to handle oversight of multimodal agency data in the same manner they currently conduct oversight activities for these agencies.

Authority: 49 U.S.C. 5329; 49 CFR 1.91, 670.25.

Veronica Vanterpool,
Deputy Administrator.

UNITED STATES DEPARTMENT OF TRANSPORTATION

Federal Transit Administration

General Directive No. 24-1

Required Actions Regarding Assaults on Transit Workers

Summary

FTA is issuing a General Directive to address the significant and continuing safety risk associated with assaults on transit workers. FTA has identified a national-level hazard that transit workers must interact with the public and, at times, must clarify or enforce agency policies, which can present a risk of transit workers being assaulted on transit vehicles and in revenue facilities.

Each transit agency that is required to have an Agency Safety Plan (ASP) under the Public Transportation Agency Safety Plans (PTASP) Final Rule (49 CFR part 673) must use the Safety Risk Management (SRM) processes required by 49 CFR 673.25(c) and documented in its ASP to conduct a safety risk assessment related to assaults on transit workers on the public transportation system it operates unless the agency has conducted a safety risk assessment related to assaults on transit workers in the twelve months preceding the date of issuance of this General Directive. Each transit agency must use the SRM processes required by 49 CFR 673.25(d) and documented in its ASP to identify safety risk mitigations or strategies necessary as a result of the agency's safety risk assessment to reduce the likelihood and severity of the potential consequences. The joint labor-management Safety Committee of each transit agency serving an urbanized area with a population of 200,000 or more (large urbanized area) is responsible for identifying and recommending safety risk mitigations to reduce the likelihood and severity of consequences identified through the agency's safety risk assessment per 49 U.S.C. 5329(d)(5). Each covered transit agency must also provide information to FTA on how it is assessing, mitigating, and monitoring the safety risk associated with assaults on transit workers.

General Directive and Required Actions

As authorized by 49 U.S.C. 5329(f)(2), 49 CFR 670.25, and Office of Management and Budget Control Number 2132-0580, FTA directs each transit agency that is required to have an ASP under the PTASP Final Rule at 49 CFR part 673 to take the following actions within 90 days of the publication of this General Directive in the Federal Register:

(a) Conduct a Safety Risk Assessment

The transit agency must use the SRM process documented in its ASP, as defined at 49 CFR 673.25(c), to conduct a risk assessment related to assaults on transit workers on the public transportation system it operates unless the agency has conducted a safety risk assessment related to assaults on transit workers in the twelve (12) months preceding the date of issuance of this General Directive.

(b) Identify Safety Risk Mitigations

The transit agency must use the SRM process documented in its ASP, as defined at 49 CFR 673.25(d), to identify safety risk mitigations or strategies necessary as a result of the agency's safety risk assessment. As required by 49 U.S.C. 5329(d)(5), each transit agency serving a large urbanized area must involve the joint labor-management Safety Committee when identifying safety risk mitigations to reduce the likelihood and severity of consequences identified through the agency's safety risk assessment.

(c) Submit Required Information to FTA

The transit agency must submit to FTA responses to the following questions:

1. Date of completed safety risk assessment.

2. Hazard assessed: Transit workers must interact with the public and, at times, must clarify or enforce agency policies.

3. Potential Consequence: Transit workers are assaulted on transit vehicles.

• Likelihood (choose the rating from FTA's scale that most closely matches your agency's scale)

• Severity (choose the rating from FTA's scale that most closely matches your agency's scale)

4. Potential Consequence: Transit workers are assaulted in revenue facilities.

• Likelihood (choose the rating from FTA's scale that most closely matches your agency's scale)

• Severity (choose the rating from FTA's scale that most closely matches your agency's scale)

5. Risk Rating (provide overall risk rating resulting from safety risk assessment).

6. For transit agencies serving a large urbanized area, did the joint labor-management Safety Committee identify and recommend safety risk mitigations to reduce the likelihood and severity of the potential consequences of assaults on transit workers identified through the agency's safety risk assessment?

• Yes

• No

7. If you answered no to Question 6, please explain.

8. Please share the safety risk mitigations the transit agency and/or Safety Committee (at agencies serving large urbanized areas) has identified as a result of the agency's safety risk assessment to reduce the likelihood and/or severity of assaults on transit workers:

• Operator Area Protective Barriers

• Signage Informing Riders of Surveillance/Penalties

• Personal Security Training

• De-Escalation Training

• Operating Policies and Procedures (e.g., policies governing operator barrier deployment; policies and procedures to permit discharging passengers between designated stops upon request; policies that operators should only state the agency fare policy once and not attempt to enforce fare payment; policies on response to interference; policies on taking de-escalatory action during incidents)

• Video/Audio Surveillance

• Covert/Overt Emergency Alarms (e.g., silent button to contact operations control center, a system for coded/covert operator communication with operations control center, exterior bus signage alerting the public to emergency onboard/call law enforcement)

• Automatic Vehicle Location

• Patrol Strategies (e.g., fare enforcement, security, transit police, local law enforcement)

• Communication Protocols (e.g., only request fare payment once)

• Public Awareness Campaigns

• Other

9. Please provide any additional information that would help FTA understand the details of your mitigation.

10. Implementation status for each safety risk mitigation

• Planned

• In Progress

• Complete

11. Safety risk mitigation implementation start date (actual or projected).

12. Safety risk mitigation implementation completion date (actual or projected).

13. If implementation is in progress, provide approximate percentage toward completion.

14. Please provide any additional information that would help FTA understand the progress of your mitigation (e.g., any external rate-limiting factors affecting implementation).

15. Performance information or data that the agency is using or will use to make effectiveness determination.

16. Effectiveness of safety risk mitigation:

• Effective

• Ineffective

• Not yet determined

17. If effectiveness of mitigation has been assessed by the agency or Safety Committee (at agencies serving large urbanized areas), a statement explaining why mitigations are either effective or ineffective.

Transit agencies must submit the required information to FTA within 90 days of the issuance of this General Directive via the FTA Safety Management System (SMS) Report on the Transit Integrated Appian Development (TrIAD) Platform. Instructions on how to use the platform and submit the required information can be found at https://www.transit.dot.gov/assaults.

Enforcement

FTA may take enforcement action for any violation of this General Directive in accordance with FTA's authorities under 49 U.S.C. 5329, including but not limited to (1) directing a recipient to use Federal financial assistance to correct safety deficiencies; and (2) withholding up to 25 percent of financial assistance to a recipient under 49 U.S.C. 5307.

Contact

For program matters, Stewart Mader, Senior Program Analyst for Safety Policy, FTA Office of System Safety, telephone (202) 366-9677 or Stewart.Mader@dot.gov; for legal matters, Heather Ueyama, Attorney-Advisor, telephone (202) 366-7374 or Heather.Ueyama@dot.gov.

[FR Doc. 2024-21923 Filed 9-24-24; 8:45 am]

BILLING CODE 4910-57-P